NUCLEAR REGULATORY COMMISSION

[NRC-2014-0040 and NRC-2015-0136]

Neutron-Absorbing Materials in Spent Fuel Pools

AGENCY: Nuclear Regulatory Commission.

ACTION: Generic letter; issuance.

SUMMARY: The U.S. Nuclear Regulatory Commission (NRC) is announcing the availability of a final generic letter addressing degradation of neutron-absorbing materials in the spent fuel pool (SFP). The NRC has determined that it is necessary to obtain plant-specific information requested in the generic letter so that the NRC can determine if the degradation of the neutron-absorbing materials in the SFP is being managed to maintain reasonable assurance that the materials are capable of performing their intended design basis function, and if the addressees are in compliance with the regulations.

DATES: The final generic letter is available as of April 14, 2016.

ADDRESSES: Please refer to Docket ID NRC-2014-0040 and NRC-2015-0136 when contacting the NRC about the availability of information regarding this document. You may obtain publicly-available information related to this document using any of the following methods:

• Federal Rulemaking Web site: Go to http://www.regulations.gov and search for Docket ID NRC-2014-0040 and NRC-2015-0136. Address questions about NRC dockets to Carol Gallagher; telephone: 301-415-3463; email: Carol.Gallagher@nrc.gov. For technical questions, contact the individual listed in the CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final generic letter, GL-2016-01, is available in ADAMS under Accession No. ML16097A169.

• NRC's PDR: You may examine and purchase copies of public documents at the NRC's PDR, Room O1-F21, One White Flint North, 11555 Rockville Pike, Rockville, Maryland 20852.

• This generic letter is also available on the NRC's public Web site at http://www.nrc.gov/reading-rm/doc-collections/gen-comm/gen-letters/ (select “2016” and then select “GL-16-01”).

FOR FURTHER INFORMATION CONTACT: Scott Krepel, Office of Nuclear Reactor Regulation, U.S. Nuclear Regulatory Commission, Washington DC 20555-0001; telephone: 301-302-0399, email: Scott.Krepel@nrc.gov.

SUPPLEMENTARY INFORMATION: The NRC is issuing a final generic letter, GL-2016-01, addressing degradation of neutron-absorbing materials in the SFP. This generic letter requests information from nuclear power plant licensees demonstrating that credited neutron-absorbing materials in the SFP of power reactors and the fuel storage pool, reactor pool, or other wet locations designed for the purpose of fuel storage, as applicable for non-power reactors, are in compliance with the current licensing and design basis, as well as applicable regulatory requirements, and that there are measures in place to maintain this compliance. The information is being requested so that the NRC can determine if it needs to take any additional licensee-specific regulatory action with respect to neutron-absorbing materials in the spent fuel pool.

The NRC published notices of opportunities for public comment on drafts of this generic letter in the Federal Register (79 FR 13685, March 11, 2014; 80 FR 31930, June 4, 2015; and 80 FR 81560, December 30, 2015). In total, the agency received 18 comments. The staff considered all comments, which resulted in minor revisions to the generic letter. The evaluation of these comments, and the resulting changes to the generic letter are discussed in the publicly-available documents in ADAMS under Accession Nos. ML14181B130, ML15222A005, and ML16033A002, respectively.

Dated at Rockville, Maryland, this 11th day of April 2016.
For the Nuclear Regulatory Commission.
Sheldon D. Stuchell,
Branch Chief, Generic Communications Branch, Division of Policy and Rulemaking, Office of Nuclear Reactor Regulation.

[FR Doc. 2016-08621 Filed 4-13-16; 8:45 am]

BILLING CODE 7590-01-P